DEPARTMENT OF COMMERCE

National Oceanic and Atmospheric Administration

Draft Programmatic Environmental Assessment of Potential White Shark Research and Education Projects in the Gulf of the Farallones and Monterey Bay National Marine Sanctuaries

AGENCY: Office of National Marine Sanctuaries (ONMS), National Ocean Service (NOS), National Oceanic and Atmospheric Administration (NOAA), Department of Commerce (DOC).

ACTION: Notice of Availability; Request for Public Comment.

SUMMARY: NOAA has developed a draft programmatic environmental assessment (PEA) to analyze the potential impacts of anticipated research and education projects in the next five years and that may have the potential to affect White Sharks within Gulf of the Farallones National Marine Sanctuary (GFNMS) and the northern portion of the Monterey Bay National Marine Sanctuary (MBNMS). The anticipated types of research and education projects described in the document have been evaluated for consistency with the National Marine Sanctuaries Act, sanctuary goals and objectives, and ONMS permitting regulations. The draft PEA is available for download on the Web site: http://farallones.noaa.gov/eco/sharks/sharks_pea.html. Proposed projects that are outside the scope of this PEA would be further evaluated on a case-by-case basis during their individual permit review phase.

SUPPLEMENTARY INFORMATION: This draft PEA on potential research and education permit decisions for attraction or approach of White Sharks incorporates a permit-specific draft EA released for public comment in 2010. On September 30, 2010, NOAA released a draft EA for public comment that analyzed the potential impacts of issuing a research permit that involved attaching location transmitters on up to eleven White Sharks (75 FR 60407). The purpose of the proposed research study was learn more about the full migratory cycle of White Sharks that visit the sanctuary seasonally. Since then, NOAA has determined that the full suite of potential permit projects—both research and education—should be analyzed in order to better understand the scope of potential effects of permitting decisions on White Sharks in the sanctuaries. Rather than finalizing the permit-specific EA, NOAA has developed this programmatic analysis and seeks public comment.

DATES: Comments on this draft environmental assessment may be made on or before April 23, 2014.

ADDRESSES: You may submit comments on this document, identified by NOAA-NOS-2014-0015, by any of the following methods:

• Electronic Submissions: Submit all electronic public comments via the Federal e-Rulemaking Portal. Go to www.regulations.gov/#!docketDetail;D=NOAA-NOS-2014-0015, click the “Comment Now!” icon, complete the required fields and enter or attach your comments.

• Mail: Submit written comments to: Max Delaney, Permit Coordinator, Gulf of the Farallones National Marine Sanctuary, The Presidio, 991 Marine Drive, San Francisco, CA 94129.

Instructions: Comments sent by any other method, to any other address or individual, or received after the end of the comment period, may not be considered by ONMS. All comments received are a part of the public record and will generally be posted for public viewing on www.regulations.gov without change. All personal identifying information (e.g., name, address, etc.), confidential business information, or otherwise sensitive information submitted voluntarily by the sender will be publicly accessible. ONMS will accept anonymous comments (enter “N/A” in the required fields if you wish to remain anonymous). Attachments to electronic comments will be accepted in Microsoft Word, Excel, or Adobe PDF file formats only.

FOR FURTHER INFORMATION CONTACT: Max Delaney, Gulf of the Farallones National Marine Sanctuary, The Presidio, 991 Marine Drive, San Francisco, CA 94129. Phone: (415) 970-5255.

Dated: March 14, 2014.
Daniel J. Basta,
Director for the Office of National Marine Sanctuaries.

[FR Doc. 2014-06280 Filed 3-21-14; 8:45 am]

BILLING CODE 3510-NK-P